DEPARTMENT OF TRANSPORTATION

Federal Railroad Administration

[Docket Number FRA-2018-0084]

Petition for Waiver of Compliance

Under part 211 of Title 49 of the Code of Federal Regulations (CFR), this provides the public notice that on October 5, 2018, the Texas State Railroad (TSR), petitioned the Federal Railroad Administration (FRA) for a waiver of compliance from certain provisions of the Federal railroad safety regulations contained at 49 CFR 240.201(d). FRA assigned the petition Docket Number FRA-2018-0084.

TSR seeks a waiver of compliance from 49 CFR 240.201(d) which states, “After December 31, 1991, no railroad shall permit or require any person to operate a locomotive in any class of locomotive or train service unless that person has been certified as a qualified locomotive engineer and issued a certificate that complies with § 240.223.” TSR desires to conduct a “Hands on the Throttle Program,” which would allow “non-certified” individuals to operate a locomotive as a “Student Locomotive Engineer.”

TSR owns and operates a fleet of steam and historic diesel locomotives and desires to provide non-certified persons the opportunity to operate these locomotives. As proposed, TSR will verify that each participant will be at least 18 years old and possesses a valid state-issued motor vehicle license, and will have a certified locomotive engineer in the cab of the locomotive at all times. The operations will occur at two locations on TSR trackage between milepost (MP) 0.0l and MP 2.16 in Rusk, Texas, and between MP 23.30 and MP 26.12 in Palestine, Texas, during daylight hours, at restricted speed, with no opposing train movements, without passengers, involving no public highway grade crossings, and derail protection will be placed at the end of each movement at both locations. Each participant will receive a job briefing prior to operating a locomotive. TSR believes that this program will generate needed revenue and interest in historic locomotives. TSR also believes these operations will not pose any safety concerns to the public at large.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by December 20, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2018-24123 Filed 11-2-18; 8:45 am]

BILLING CODE 4910-06-P